DEPARTMENT OF JUSTICE

Antitrust Division

Notice Pursuant to the National Cooperative Research and Production Act of 1993—Sensory System for Critical Infrastructure Defect Recognition, Visualization and Failure Prediction

Notice is hereby given that, on July 23, 2010, pursuant to Section 6(a) of the National Cooperative Research and Production Act of 1993, 15 U.S.C. 4301 et seq. (the Act”), Sensory System for Critical Infrastructure Defect Recognition, Visualization and Failure Prediction ('Sensory System”) has filed written notifications simultaneously with the Attorney General and the Federal Trade Commission disclosing changes in its members. The notifications were filed for the purpose of extending the Act's provisions limiting the recovery of antitrust plaintiffs to actual damages under specified circumstances. Specifically, Louisiana Tech University Research Foundation, Ruston, LA, has been added as a party to this venture. Also, UltraScan, LLC, Ruston, LA, has withdrawn as a member to this venture.

No other changes have been made in either the membership or planned activity of the group research project. Membership in this group research project remains open, and Sensory Systems intends to file additional written notifications disclosing all changes in membership.

On April 14, 2009, Sensory System filed its original notification pursuant to Section 6(a) of the Act. The Department of Justice published a notice in the Federal Register pursuant to Section 6(b) of the Act on June 15, 2009 (74 FR 28277).

Patricia A. Brink,
Deputy Director of Operations, Antitrust Division.

[FR Doc. 2010-22217 Filed 9-8-10; 8:45 am]

BILLING CODE 4410-11-M